DEPARTMENT OF JUSTICE

Bureau of Alcohol, Tobacco, Firearms and Explosives

[ATF Notice No. 1; ATF O 1120.2; Docket No. 2003-39]

Delegation Order—Authority To Make Determinations on Notices of Clearances, Letters of Clearance, Letters of Denial, and Appeals of Letters of Denial Under 18 U.S.C. 843(h)

To: All ATF Offices

1. Purpose. This order delegates certain authorities of the Director to subordinate Bureau of Alcohol, Tobacco, Firearms and Explosives (ATF) officials to make determinations on Notices of Clearance, Letters of Clearance, Letters of Denial, and Appeals of Letters of Denial under 18 U.S.C. 843(h) for responsible persons and employee possessors listed on explosives licenses and permits.

2. Delegation. Under the authority vested in the Director, ATF, by Department of Justice Final Rule (AG Order No. 2650-2003) as published in the Federal Register on January 31, 2003, and by title 28 CFR 0.130 through 0.131, the Chief of the National Explosives Licensing Center is to make determinations relating to Notices of Clearance and Letters of Clearance, and the Chief of the Brady Operations Branch is to make determinations relating to letters of denial and appeals of letters of denial.

3. Questions. Questions regarding this order should be addressed to the Firearms, Explosives and Arson Services Division at (202) 927-8300.

Signed: May 5, 2003.
Bradley A. Buckles,
Director.

[FR Doc. 03-14338 Filed 6-5-03; 8:45 am]

BILLING CODE 4410-FY-P